DEPARTMENT OF LABOR

Employment and Training Administration

[TA-W-52,350]

Fisher Controls International, LLC, Valve Division, Sherman, TX; Notice of Termination of Investigation

Pursuant to Section 221 of the Trade Act of 1974, as amended, an investigation was initiated on July 21, 2003, in response to a petition filed by a company official on behalf of workers at Fisher Controls International, LLC, Valve Division, Sherman, Texas.

The company official has requested that the petition be withdrawn. Consequently, further investigation would serve no purpose and the investigation under this petition has been terminated.

Signed at Washington, DC, this 4th day of August 2003.
Linda G. Poole,
Certifying Officer, Division of Trade Adjustment Assistance.

[FR Doc. 03-20722 Filed 8-13-03; 8:45 am]

BILLING CODE 4510-30-P